DEPARTMENT OF THE INTERIOR

Bureau of Land Management

[LLNMF02300 L12200000.NU0000 223L1109AF]

Notice of Temporary Closure of Public Lands in Taos County, NM

AGENCY: Bureau of Land Management, Interior.

ACTION: Notice of closure.

SUMMARY: Notice is hereby given that a closure to all public use and entry is in effect on certain public lands administered by the Taos Field Office to provide for public health and safety during the construction of the John Dunn Bridge and the Rio Hondo Bridge.

DATES: The John Dunn Bridge area will be closed until the completion of construction, or until February 28, 2023, whichever occurs first.

FOR FURTHER INFORMATION CONTACT: Judy Culver, Assistant Field Manager, telephone (575) 751-4703; address 1024 Paseo del Pueblo Sur, Taos, NM 87571; email jculver@blm.gov. Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: The temporary closure facilitates the Federal Highway Administration and Taos County, New Mexico project to address the rehabilitation of the John Dunn Bridge, and demolition and construction of a new Rio Hondo Bridge. In coordination with Taos County, the BLM will close Taos County Road B-007 to public use and travel, preventing access to the area to protect public safety and ensure the Federal Lands Access Program project can be completed without delay. The order will be in place through February 28, 2023. The temporary closure affects BLM-managed public lands within the Río Grande del Norte National Monument and Taos Field Office. The area will remain closed to all entry, including the portions of the Río Grande and Rio Hondo within the closure, Blackrock Hot Springs, Manby Hot Springs, all trails and roads within the John Dunn Bridge area, and adjacent BLM-managed lands within the area. The BLM will post temporary closure notices online at https://www.blm.gov/new-mexico-advisories-and-closures. The public lands affected by this closure are described as follows:

New Mexico Principal Meridian, Taos County, New Mexico

Township 27 North, Range 12 East

Section 31, all.

Exceptions: Temporary closure restrictions do not apply to Federal, State, and local officers and employees in the performance of their official duties; members of organized rescue or fire-fighting forces in the performance of their official duties; persons, agencies, municipalities, or companies with a written permit that specifically authorizes the otherwise prohibited act; and persons with written authorization from the BLM. An exemption does not absolve an individual or organization from liability or responsibility for any fire started by an exempted activity.

Penalties: Any person who violates this temporary closure or these restrictions may be tried before a United States Magistrate and fined in accordance with 18 U.S.C. 3571, imprisoned no more than 12 months under 43 U.S.C. 1733(a) and 43 CFR 8360.07, or both. In accordance with 43 CFR 8365.1-7, State or local officials may also impose penalties for violations of New Mexico law.

Effect of Closure: The entire area encompassed by the legal description as described in this notice and in the time period as described in this notice are temporarily closed to all public use, including pedestrians and vehicles, unless specifically excepted as described above.

(Authority: 43 CFR 8364.1, and 43 U.S.C. 1701 et seq.)

Melanie Barnes,
BLM New Mexico State Director.

[FR Doc. 2023-00048 Filed 1-5-23; 8:45 am]

BILLING CODE 4331-23-P